DEPARTMENT OF THE INTERIOR

Bureau of Indian Affairs

[189A2100DD/AAKC001030/A0A501010.999900 253G]

Advisory Board for Exceptional Children

AGENCY: Bureau of Indian Affairs, Interior.

ACTION: Notice.

SUMMARY: In accordance with the Federal Advisory Committee Act, the Bureau of Indian Education (BIE) is announcing that the Advisory Board for Exceptional Children (Advisory Board) will hold a public meeting in Albuquerque, New Mexico, to meet the requirements of the Individuals with Disabilities Education Act of 2004 (IDEA) for Indian children with disabilities.

DATES: The meeting will be held on Thursday, January 11, 2018, and Friday, January 12, 2018, from 8:30 a.m. to 4:30 p.m. Mountain Time.

ADDRESSES: The meeting will be held in the Large Conference Room on the 3rd floor, at 1011 Indian School Road NW, Albuquerque, NM 87104.

FOR FURTHER INFORMATION CONTACT: Ms. Jennifer Davis, Designated Federal Officer, Bureau of Indian Education, 2600 N. Central Ave. Suite 800, Phoenix, AZ 85004; telephone number (480) 777-7986.

SUPPLEMENTARY INFORMATION: This meeting is being held under the provisions of the Federal Advisory Committee Act of 1972 (5 U.S.C. Appendix 2, as amended). The Advisory Board was established under IDEA to advise the Secretary of the Interior, through the Assistant Secretary-Indian Affairs, on the needs of Indian children with disabilities. The meetings are open to the public.

The following items will be on the agenda:

• Introduction of Advisory Board members

• Report from Tony Dearman, Director, BIE Director's Office

• Report from Dr. Jeffrey Hamley Associate Deputy Director, BIE, Division of Performance and Accountability (DPA)

• Report from Donald Griffin, Supervisory Education Specialist, BIE, DPA/Special Education

• Board work on Priorities for 2018

• Public Comment (via conference call, Friday, January 12th meeting only*).

• BIE Advisory Board—Advice and Recommendations

The meeting on January 12, 2018, will include a public comment period via conference call from 11:30 a.m. to 12:00 p.m. Depending on the number of persons wishing to comment and time available, the amount of time for individual oral comments may be limited. To allow for full consideration of information by the Advisory Board, written comments must be provided to Jennifer Davis, Designated Federal Officer, Bureau of Indian Education, 2600 N. Central Avenue, Suite 800, Phoenix, AZ 85004; or by telephone (480) 777-7986, no later than Thursday, January 11, 2018. All written comments received will be provided to the Advisory Board. The call-in information for the public comment period is 1-888-417-0376, Passcode: 2509140.

Before including your address, phone number, email address, or other personal identifying information in your comment, you should be aware that your entire comment—including your personal identifying information—may be made publicly available at any time. While you can ask us in your comment to withhold your personal identifying information from public review, we cannot guarantee that we will be able to do so.

Authority: 5 U.S.C. Appendix 5; 20 U.S.C. 1400 et seq.

Dated: December 12, 2017.
John Tahsuda,
Principal Deputy Assistant Secretary—Indian Affairs, Exercising the Authority of the Assistant Secretary—Indian Affairs.

[FR Doc. 2017-28055 Filed 12-27-17; 8:45 am]

BILLING CODE 4337-15-P